DEPARTMENT OF EDUCATION

Proposed Information Collection Requests; Federal Student Aid; Foreign School Supplemental Application System

ACTION: Notice.

SUMMARY: The Foreign School Supplemental Application System (FS SAS) is designed as a bridge system that will allow foreign school administrators to enter information directly into the Electronic Application for Approval to Participate in Federal Student Aid Programs (e-App) system in a secure fashion and upload required documents.

DATES: Interested persons are invited to submit comments on or before October 15, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04905. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Foreign School Supplemental Application System.

OMB Control Number: Pending.

Type of Review: New.

Total Estimated Number of Annual Responses: 70.

Total Estimated Number of Annual Burden Hours: 245.

Abstract: The FS SAS works in conjunction with the e-App system. When a foreign school is applying for initial participation, or is submitting an application for recertification or reinstatement, if the school is seeking approval of its medical, nursing or veterinary school, upon completion of the e-App, the school will able to link to the FS SAS on the Information for Financial Aid Professionals Web page. Only foreign schools who are registered with Federal Student Aid and who have been issued the required two factor authentication tokens can access the FS SAS. The FS SAS allows foreign schools to upload required documentation in a portable document format to accompany the applications and reducing the time it takes to complete the application to submit to the Foreign Schools Team for review.

Dated: August 2, 2012.
Darrin A. King,
Director, Information Collection Clearance Division, Privacy, Information and Records Management Services, Office of Management.

[FR Doc. 2012-19945 Filed 8-13-12; 8:45 am]

BILLING CODE 4000-01-P